ENVIRONMENTAL PROTECTION AGENCY

40 CFR Parts 239, 257, and 258

[FRL-8024-1]

Maine: Proposed Determination of Adequacy for the State Municipal Solid Waste Landfill (MSWLF) Permitting Program

AGENCY: Environmental Protection Agency (EPA).

ACTION: Proposed rule.

SUMMARY: The EPA is proposing to approve the State of Maine's permit program for municipal solid waste landfills (MSWLF's) and to approve the State's approach of not allowing conditionally exempt small quantity generator (CESQG) hazardous waste to be sent to non-municipal, non-hazardous waste disposal units. Elsewhere in today's Federal Register, EPA is publishing a direct final rule that determines the adequacy of the State of Maine's municipal solid waste permitting program without a prior proposal because we believe this action is not controversial and do not expect comments that oppose it. Unless we get relevant written comments which oppose this determination of adequacy during the comment period, the decision will take effect. If we receive comments that oppose this action, we will publish a document in the Federal Register withdrawing this rule before it takes effect and this separate document in this proposed rules section of the direct final Federal Register will serve as the proposal to determine the adequacy of the State Municipal Solid Waste Landfill permitting program.

DATES: Send your written comments by February 23, 2006.

ADDRESSES: Send any written comments to Chuck Franks, EPA Region 1, One Congress Street, Suite 1100 (CHW), Boston, MA 02114-2023; telephone: (617) 918-1554; e-mail: franks.chuck@epa.gov. Documents related to EPA's decision regarding the Determination of Adequacy (the “Administrative Record”) are available for inspection and copying during normal business hours at the following locations: (1) Monday through Thursday, 8:30 a.m. to 4:30 p.m. and Friday, 8:30 a.m. to 12:30 p.m., Maine Department of Environmental Protection (ME DEP), State House Station 17, Hospital Street, Augusta, Maine 04333. For review of Maine's application at the Maine Department of Environmental Protection, (ME DEP), one day advance notice is requested by ME DEP and may be made by calling (207) 287-2651; and (2) EPA New England—Region 1 Library, One Congress Street—11th Floor, Boston, MA 02114-2023, business hours: 10 a.m. to 3 p.m., Monday through Thursday, telephone number: (617) 918-1990.

FOR FURTHER INFORMATION CONTACT: Chuck Franks, Hazardous Waste Unit, Office of Ecosystems Protection, EPA New England—Region 1, One Congress Street, Suite 1100 (CHW), Boston, MA 02114-2023; telephone: (617) 918-1554; e-mail: franks.chuck@epa.gov.

SUPPLEMENTARY INFORMATION: For additional information, please see the direct final rule published in the “Rules and Regulations” section of this Federal Register.

Dated: December 27, 2005.
Robert W. Varney,
Regional Administrator, EPA New England.

[FR Doc. 06-626 Filed 1-23-06; 8:45 am]

BILLING CODE 6560-50-P